DEPARTMENT OF THE INTERIOR

National Park Service

[NPS-WASO-NRSS-BRD-20078; PPWONRADB1, PPMRSNR1Y.NM000]

Proposed Information Collection: Comment Request: NPS Institutional Animal Care and Use Committee (IACUC) General Submission, Annual Review, Amendment, and Exhibitor Forms

AGENCY: National Park Service, Interior.

ACTION: Notice; request for comments.

SUMMARY: We (National Park Service, NPS) will ask the Office of Management and Budget (OMB) to approve an information collection (IC) described below. This is a renewal for a collection currently consisting of four forms (General Submission, Annual Review, Amendment, and Exhibitor Submission) used by the Institutional Animal Care and use Committee (NPS IACUC/the Committee) to ensure compliance with the Animal Welfare Act (AWA), its regulations (AWAR) and standards, and the Interagency Research Animal Committee (IRAC) principles for projects involving the use of vertebrate animals in research, teaching, and/or exhibition. As required by the Paperwork Reduction Act of 1995 and as part of our continuing efforts to reduce paperwork and respondent burden, we invite the general public and other federal agencies to take this opportunity to comment on this IC. We may not conduct or sponsor, and a person is not required to respond to, a collection of information unless it displays a currently valid OMB Control Number.

DATES: To ensure that your comments on this IC are considered, we must receive them on or before March 14, 2016.

ADDRESSES: Direct all written comments on this IC to Phadrea Ponds, Information Collection Coordinator, National Park Service, 1201 Oakridge Drive, Fort Collins, CO 80525 (mail); or pponds@nps.gov (email). Please reference Information Collection “1024-0265 IACUC” in the subject line.

FOR FURTHER INFORMATION CONTACT: Aaron Smith, NPS IACUC Administrator by mail at Biological Resource Division, 1201 Oakridge Dr, Suite 200, Fort Collins, CO, 80525 or aaron_d_smith@nps.gov (email). You may also contact Tracy Thompson at tracy_thompson@nps.gov (email).

SUPPLEMENTARY INFORMATION:

I. Abstract

All research, teaching, and exhibition projects involving vertebrate animals taking place on NPS territories must be approved by the NPS IACUC prior to their commencement. Principal Investigators (PI) are required to submit the completed General Submission, Annual Renewal, Amendment, or Exhibitor Submission as required for approval to the NPS IACUC Office.

II. Data

OMB Number: 1024-0265.

Title: NPS Institutional Animal Care and Use Committee (IACUC) General Submission, Annual Review, Amendment, and Exhibitor Forms.

Type of Request: Renewal.

Affected Public: Any researcher affiliated with an academic research institution; or state or federal agency.

Respondent Obligation: Mandatory.

Frequency of Collection: One-time, on occasion.

Estimated Number of Annual Responses: 190.

Annual Burden Hours: 570 hours. We expect to receive 190 annual responses. We estimate an average of 3 hours per response.

Estimated Reporting and Recordkeeping “Non-Hour Cost” Burden: We have not identified any “non-hour cost” burdens associated with this collection of information.

III. Request for Comments

We invite comments concerning this information collection on:

• The practical utility of the information being gathered;

• The accuracy of the burden for this collection of information;

• Ways to enhance the quality, utility, and clarity of the information to be collected; and

• Ways to minimize the burden of the collection of information on respondents.

Please note that the comments submitted in response to this notice are a matter of public record. We will include or summarize each comment in our request to OMB to approve this IC. Before including your address, phone number, email address, or other personal identifying information in your comment, you should be aware that your entire comment, including your personal identifying information, may be made publicly available at any time. While you can ask OMB in your comment to withhold your personal identifying information from public review, we cannot guarantee that we will be to do so.

Dated: January 7, 2016.
Madonna L. Baucum,
Information Collection Clearance Officer, National Park Service.

[FR Doc. 2016-00501 Filed 1-12-16; 8:45 am]

BILLING CODE 4310-EH-P